ENVIRONMENTAL PROTECTION AGENCY

[EPA-HQ-OAR-2021-0091; FRL-9516-01-OMS]

Information Collection Request Submitted to OMB for Review and Approval; Comment Request; NESHAP for Pesticide Active Ingredient Production (Renewal)

AGENCY: Environmental Protection Agency (EPA).

ACTION: Notice.

SUMMARY: The Environmental Protection Agency (EPA) has submitted an information collection request (ICR), NESHAP for Pesticide Active Ingredient Production (EPA ICR Number 1807.10, OMB Control Number 2060-0370), to the Office of Management and Budget (OMB) for review and approval in accordance with the Paperwork Reduction Act. This is a proposed extension of the ICR, which is currently-approved through March 31, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 28, 2022.

ADDRESSES: Submit your comments, referencing Docket ID Number EPA-HQ-OAR-2021-0091, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Pesticide Active Ingredient Production (40 CFR part 63, subpart MMM) apply to existing and new facilities engaged in the production of pesticide active ingredients (PAIs) that emit HAPs. New facilities include those that commenced construction, modification, or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart MMM.

Form Numbers: None.

Respondents/affected entities: Pesticide active ingredient production facilities.

Respondent's obligation to respond: Mandatory (40 CFR part 63, subpart MMM).

Estimated number of respondents: 19 (total).

Frequency of response: Quarterly and semiannually.

Total estimated burden: 13,200 hours (per year). Burden is defined at 5 CFR 1320.3(b).

Total estimated cost: $1,910,000 (per year), which includes $339,000 in annualized capital/startup and/or operation & maintenance costs.

Changes in the Estimates: The increase in burden from the most-recently approved ICR is due to several adjustments. This increase is not due to any program changes. The adjustment increase in burden from the most-recently approved ICR is due to an increase in the number of existing respondents. The number of estimated facilities subjected to this rule has increased to 19 based on a review of EPA's Enforcement and Compliance History Online and data collected during rulemakings for related chemical sectors. Based on comments received from industry, we have also updated the `burden' to reflect that at least one existing respondent will install a new process unit per year. This ICR adjusts the burden to reflect certain one-time activities for these sources, including submittal of an updated pre-compliance report, notifications of initial performance test or performance evaluation, updates to facility record management systems, and development of a quality assurance/quality control plan for continuous monitoring systems.

This ICR also adjusts the capital and operation and maintenance costs to reflect comments provided by industry. The ICR capital costs have been adjusted to account for at least one existing respondent that will install a new process unit per year. Additionally, this ICR adjusts the operation and maintenance costs for pressure relief device, process vent, and wastewater monitoring based on estimates provided by industry.

Courtney Kerwin,
Director, Regulatory Support Division.

[FR Doc. 2022-01757 Filed 1-27-22; 8:45 am]

BILLING CODE 6560-50-P